DEPARTMENT OF TRANSPORTATION

Federal Motor Carrier Safety Administration

[Docket No. FMCSA-2012-0379]

Agency Information Collection Activities; Approval of a Currently Approved Information Collection Request: Financial Responsibility for Motor Carriers of Passengers and Motor Carriers of Property; Correction

AGENCY: Federal Motor Carrier Safety Administration (FMCSA), DOT.

ACTION: Notice; correction.

SUMMARY: The Federal Motor Carrier Safety Administration published a document in the Federal Register of March 1, 2013, concerning request for comments on the approval of a currently approved information collection request entitled, “Financial Responsibility for Motor Carriers of Passengers and Motor Carriers of Property.” The document contained an incorrect Docket Number.

FOR FURTHER INFORMATION CONTACT: Gerald Folsom, 202-385-2412.

Correction

In the Federal Register of March 1, 2013, in FR Doc. FMCSA-2013-0379, on page 13932, in the first column, correct the “Docket Numbers” to read:

Docket No. FMCSA-2012-0379; and

ADDRESSES: All comments should reference Federal Docket Management System (FDMS) Docket Number FMCSA-2012-0379.

Issued on: March 11, 2013.
G. Kelly Leone,
Associate Administrator, Office of Research and Information Technology and Chief Information Officer.

[FR Doc. 2013-06361 Filed 3-19-13; 8:45 am]

BILLING CODE 4910-EX-P